DEPARTMENT OF COMMERCE

International Trade Administration

[A-570-501]

Notice of Extension of Time Limit of Preliminary Results of Administrative Review: Natural Bristle Paint Brushes From the People's Republic of China

AGENCY: Import Administration, International Trade Administration, U.S. Department of Commerce.

SUMMARY: The Department of Commerce is extending the time limit of the preliminary results of the administrative review of the antidumping duty order on natural bristle paint brushes from the People's Republic of China until no later than January 23, 2003. The period of review is February 1, 2001, through January 31, 2002. This extension is made pursuant to section 751(a)(2)(B)(iv) of the Tariff Act of 1930, as amended.

EFFECTIVE DATE: November 1, 2002.

FOR FURTHER INFORMATION CONTACT: Douglas Kirby or Sean Carey, AD/CVD Enforcement, Import Administration, International Trade Administration, U.S. Department of Commerce, 14th Street and Constitution Avenue, N.W., Washington D.C. 20230; telephone: (202) 482-3782 or (202) 482-3964, respectively.

SUPPLEMENTARY INFORMATION:

Applicable Statutes and Regulations

Unless otherwise indicated, all citations to the statute are references to the provisions of the Tariff Act of 1930, as amended (the Act). In addition, unless otherwise indicated, all citations to the Department's regulations are to the provisions codified at 19 CFR Part 351 (2002).

Statutory Time Limits

Section 351.213(h)(1) of the Department's regulations requires the Department to issue the preliminary results of an administrative review within 245 days after the last day of the anniversary month of the order or suspension agreement for which the administrative review was requested, and final results of review within 120 days after the date on which notice of the preliminary results was published in the Federal Register. However, if the Department determines that it is not practicable to complete the review within this time period, section 351.213(h)(2) of the Regulations allows the Department to extend the 245-day period to 365 days and may extend the 120-day period to 180 days.

Background

On February 1, 2002, the Department published a notice of opportunity to request an administrative review of the antidumping duty order on natural bristle paint brushes and brush heads from the People's Republic of China (PRC) (67 FR 4945). On February 28, 2002, the Department received a timely request from petitioner for administrative reviews of Hunan Provincial Native Produce and Animal By-Products Import and Export Corporation (Hunan) and Hebei Founder Import and Export Company (Hebei). On March 27, 2002, the Department initiated an administrative review of the antidumping duty order on natural bristle paintbrushes and brush heads, for the period from February 1, 2001 through January 31, 2002, in order to determine whether merchandise imported into the United States is being sold at less than fair value with respect to these two companies. See Initiation of Antidumping and Countervailing Duty Administrative Reviews and Requests for Revocations in Part (67 FR 14696).

On May 1, 2002 the Department issued antidumping questionnaires to Hebei and Hunan. In its reply to Section A of the questionnaire, Hebei stated that it had made no sales or shipments of subject merchandise to the United States during the POR. The Department also performed a U.S. Customs Service (Customs) query for entries of natural bristle paintbrushes and brush heads, classified under the Harmonized Tariff Schedule of the United States (HTSUS) item number 9603.40.40.40, from the PRC during the POR. We found no entries or shipments from Hebei during the POR. Thus, the Department rescinded the review with respect to Hebei. See Natural Bristle Paintbrushes and Brush Heads From the People's Republic of China; Notice of Rescission, In Part, of Antidumping Administrative Review, 67 FR 58018 (September 13, 2002). The Department's preliminary results in the review of Hunan are currently due October 31, 2002.

Extension of Time Limits for Preliminary Results

Pursuant to section 751(a)(2)(B) of the Act, the Department may extend the deadline for completion of the preliminary results of an administrative review if it determines that it is not practicable to complete the review within the time specified in section 351.213(h)(2) of the Department's regulations. The Department has determined that the preliminary results of this administrative review cannot be completed within the statutory time limit of 245 days. The Department finds that it is not practicable to complete the preliminary results of this administrative review because there are a number of issues that must be addressed. For example, the Department has prepared a supplemental questionnaire requesting additional information on the respondent's questionnaire responses concerning affiliation and date of sale. Given the issues in this case, the Department may find it necessary to request even more information in this administrative review, as well as to conduct verification. Therefore, in accordance with section 351.213(h)(2) of the Department's regulations, the Department is extending the time limit for the completion of preliminary results by 85 days. The preliminary results will now be due no later than January 23, 2003. The final results continue to be due within 120 days of the publication of the preliminary results.

This notice is published pursuant to sections 751(a)(2)(B) and 777(i)(1) of the Act.

Dated: October 25, 2002.
Richard O. Weible,
Acting Deputy Assistant Secretary for Import Administration, Group III.

[FR Doc. 02-27856 Filed 10-31-02; 8:45 am]

BILLING CODE 3510-DS-S